DEPARTMENT OF ENERGY

Federal Energy Regulatory Commission

[Docket No. ER03-564-001, et al.]

Midwest Independent Transmission System Operator, Inc., et al.; Electric Rate and Corporate Filings

April 21, 2003.

The following filings have been made with the Commission. The filings are listed in ascending order within each docket classification.

1. Midwest Independent Transmission System Operator, Inc.

[Docket No. ER03-564-001]

Take notice that on April 17, 2003, the Midwest Independent Transmission System Operator, Inc. (Midwest ISO) submitted for filing an original and five copies of proposed amendments to Exhibit A to the Network Integration Transmission Service Agreement for Wisconsin Public Power, Inc. (WPPI), Service Agreement No. 532 (NITS Agreement) under the Midwest ISO's Open Access Transmission Tariff (Tariff), FERC Electric Tariff, Second Revised Volume No. 1.

The Midwest ISO has requested waiver of the Commission's 60-day notice requirement and an effective date of February 1, 2003.

The Midwest ISO states that it has served copies of its filing on all affected customers and that it has electronically served a copy of this filing, without attachments, upon all Midwest ISO Members, Member representatives of Transmission Owners and Non-Transmission Owners, the Midwest ISO Advisory Committee participants, Policy Subcommittee participants, as well as all state commissions within the region. In addition, Midwest ISO states that the filing has been electronically posted on the Midwest ISO's Web site at http://www.midwestiso.org under the heading “Filings to FERC” for other interested parties in this matter. The Midwest ISO indicates that it will provide hard copies to any interested parties upon request.

Comment Date: May 8, 2003.

2. American Electric Power Service Corporation

[Docket No. ER03-659-001]

Take notice that on April 17, 2003, the American Electric Power Service Corporation (AEPSC) tendered for filing an executed Amended and Restated Interconnection and Operation Agreement between Ohio Power Company and Lawrence Energy Center LLC. AEPSC states that the agreement is pursuant to the AEP Companies' Open Access Transmission Service Tariff (OATT) that has been designated as the Operating Companies of the American Electric Power System FERC Electric Tariff Third Revised Volume No. 6, effective July 31, 2001. AEP requests an effective date of June 16, 2003.

AEPSC states that a copy of the filing was served upon Lawrence Energy Center and the Public Utilities Commission of Ohio.

Comment Date: May 8, 2003.

3. American Electric Power Service Corporation

[Docket No. ER03-660-001]

Take notice that on April 17, 2003, the American Electric Power Service Corporation (AEPSC) tendered for filing an executed Amended and Restated Interconnection and Operation Agreement between Ohio Power Company and Lawrence Energy Center LLC. AEPSC states that the agreement is pursuant to the AEP Companies' Open Access Transmission Service Tariff (OATT) that has been designated as the Operating Companies of the American Electric Power System FERC Electric Tariff Third Revised Volume No. 6, effective July 31, 2001. AEP requests an effective date of June 16, 2003.

AEPSC states that a copy of the filing was served upon Lawrence Energy Center and the Public Utilities Commission of Ohio.

Comment Date: May 8, 2003.

4. FPL Energy New England Transmission, LLC

[Docket Nos. OA03-4-000 and OA03-5-000]

Take notice that on April 8, 2003, FPL Energy New England Transmission, LLC (Applicant) filed with the Federal Energy Regulatory Commission (Commission) a request for expedited order confirming that it has complied with the requirements of Order No. 888 by placing its transmission facilities under the control of the New England Independent System Operator. Applicant also requested an expedited order confirming that the standards of conduct with its pleading comply with the requirements of Order No. 889.

Comment Date: May 21, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-10322 Filed 4-25-03; 8:45 am]

BILLING CODE 6717-01-P